DEPARTMENT OF HEALTH AND HUMAN SERVICES

Health Resources and Services Administration

Agency Information Collection Activities: Proposed Collection: Public Comment Request; Information Collection Request Title: Nurse Corps Scholarship Program (NCSP), OMB No. 0915-0301—Revision

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than December 3, 2019.

ADDRESSES: Submit your comments to paperwork@hrsa.gov or mail the HRSA Information Collection Clearance Officer, Room 14N136B, 5600 Fishers Lane, Rockville, Maryland 20857.

FOR FURTHER INFORMATION CONTACT: To request more information on the proposed project or to obtain a copy of the data collection plans and draft instruments, email paperwork@hrsa.gov or call Lisa Wright-Solomon, HRSA Information Collection Clearance Officer at (301) 443-1984.

SUPPLEMENTARY INFORMATION: When submitting comments or requesting information, please include the information request collection title for reference.

Information Collection Request Title: Nurse Corps Scholarship Program (NCSP) OMB No. 0915-0301—Revision

Abstract: The NCSP, administered by the Bureau of Health Workforce in HRSA, provides scholarships to nursing students in exchange for a minimum two-year full-time service commitment (or part-time equivalent) at an eligible health care facility with a critical shortage of nurses (i.e., Critical Shortage Facility (CSF)). The scholarship consists of payment of tuition, fees, other reasonable educational costs, and a monthly support stipend. Program recipients are required to fulfill NCSP service commitments at CSFs located in the 50 States, the District of Columbia, Guam, the Commonwealth of Puerto Rico, the Northern Mariana Islands, the U.S. Virgin Islands, American Samoa, the Federated States of Micronesia, the Republic of the Marshall Islands, and the Republic of Palau.

Need and Proposed Use of the Information: The NCSP collects data to determine an applicant's eligibility for the program, monitor a participant's continued enrollment in a school of nursing, monitor the participant's compliance with the NCSP service obligation, and prepare annual reports to Congress. Generally, the following information will be collected (1) from the schools of nursing, on a quarterly basis—general applicant and nursing school data such as full name, location, tuition/fees, and enrollment status; (2) from the schools of nursing, on an annual basis—data concerning tuition/fees and overall student enrollment status; and (3) from the participants and their employing CSF, on a biannual basis—data concerning the participant's employment status, work schedule and leave usage.

The Employment Verification Form has been updated to include two questions about participants who work at multiple sites. The In-Service Verification form has been updated to include questions on telehealth and mental health services provided by NCSP participants. Additionally, the application will include a question about participation in other federal pipeline programs.

Likely Respondents: NCSP participants, educational institutions, and critical shortage facilities.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Eligible Applications/Application Program Guidance | 2,600 | 1 | 2,600 | 2.00 | 5,200
School Enrollment Verification Form | 500 | 4 | 2,000 | .33 | 660
Confirmation of Interest Form | 250 | 1 | 250 | .20 | 50
Data Collection Worksheet Form | 500 | 1 | 500 | 1.00 | 500
Graduation Close Out Form | 200 | 1 | 200 | .17 | 34
Initial Employment Verification Form | 500 | 1 | 500 | .42 | 210
Employer—Participant Service Verification Form | 1,000 | 2 | 2,000 | .12 | 240
CSF Verification Form | 200 | 1 | 200 | .20 | 40
Total | 5,750 |  | 8,250 |  | 6,934

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Division of the Executive Secretariat.

[FR Doc. 2019-21684 Filed 10-3-19; 8:45 am]

BILLING CODE 4165-15-P